DEPARTMENT OF THE INTERIOR

National Park Service

National Register of Historic Places; Weekly Listing of Historic Properties

Pursuant to (36CFR60.13(b,c)) and (36CFR63.5), this notice, through publication of the information included herein, is to apprise the public as well as governmental agencies, associations and all other organizations and individuals interested in historic preservation, of the properties added to, or determined eligible for listing in, the National Register of Historic Places from December 21 to December 24 and December 28 to December 31, 2009.

For further information, please contact Edson Beall via: United States Postal Service mail, at the National Register of Historic Places, 2280, National Park Service, 1849 C St., NW., Washington, DC 20240; in person (by appointment), 1201 Eye St., NW., 8th Floor, Washington DC 20005; by fax, 202-371-2229; by phone, 202-354-2255; or by e-mail, Edson_Beall@nps.gov.

Dated: March 9, 2010.
J. Paul Loether,
Chief, National Register of Historic Places/National Historic Landmarks Program.

December 21 to December 24, 2009

KEY: State, County, Property Name, Address/Boundary, City, Vicinity, Reference Number, Action, Date, Multiple Name

ARIZONA

Maricopa County

Palm Lane Gardens, 101-115 E. Palm La., Phoenix, 09001112, Listed, 12/22/09

Villa del Coronado, 100-190 E. Coronado Rd., Phoenix, 09001113, Listed, 12/22/09

Pima County

Villa Catalina, 3000-3034 E. 6th St. & 521-525 N. Country Club Rd., Tucson, 09001114, Listed, 12/22/09

ARKANSAS

Cross County

Wynne Commercial Historic District, Roughly bounded by Front St., Commercial Ave., Terry St., Wilson St., and Pecan Ave., Wynne, 09001115, Listed, 12/22/09

CALIFORNIA

Los Angeles County

Gill, Merwyn C., House, 1385 El Mirador Dr., Pasadena, 09000176, Listed, 12/23/09 (Cultural Resources of the Recent Past, City of Pasadena)

Poppy Peak Historic District, Bounded by Ave. 64 on the E., La Loma Rd. on the N. including Poppy Peak Dr., Kaweah Dr., Cresthaven Dr., Pasadena, 09000182, Listed, 12/23/09 (Cultural Resources of the Recent Past, City of Pasadena)

Mendocino County

Navarro, Navarro Beach Rd., Albion, 09001089, Listed, 12/21/09

California Theatre, The, 562 W. 4th St., San Bernardino, 09001116, Listed, 12/22/09

San Francisco County

Armour & Co. Building, 1050 Battery St., San Francisco, 09001117, Listed, 12/22/09

Four Fifty Sutter Building, 450 Sutter St., San Francisco, 09001118, Listed, 12/22/09

COLORADO

Baca County

Two Buttes Gymnasium, 5th and C Sts., Two Buttes, 09001119, Listed, 12/22/09 (New Deal Resources on Colorado's Eastern Plains MPS)

Las Animas County

7-D School, Co. Rd. 171 N. of Co. Rd. 50.6, Branson vicinity, 09001120, Listed, 12/22/09 (New Deal Resources on Colorado's Eastern Plains MPS)

Prowers County

Prowers Country Welfare Housing, 800 E. Maple St., Lamar, 09001121, Listed, 12/22/09 (New Deal Resources on Colorado's Eastern Plains MPS)

ILLINOIS

Lake County

Mandel, Mr. Fred L., Jr., House, 2479 Woodbridge La., Highland Park, 09001122, Listed, 12/22/09

Winnebago County

Valencia Court Apartments, 500-518 Fisher Ave., Rockford, 09001123, Listed, 12/22/09

INDIANA

Adams County

Dugan, Charles, House, 420 W. Monroe St., Decatur, 09001124, Listed, 12/22/09

Allen County

Indian Village Historic District, Roughly bounded by Nuttman Ave on the N., Bluffton Rd. on E., Eagle Rd. on S., Norfold Southern ROW on W., Fort Wayne, 09001125, Listed, 12/22/09 (Park and Boulevard System of Fort Wayne, Indiana MPS)

Southwood Park Historic District, Bounded by W. Pettit Ave., Stratford Rd., W. Sherwood Terrace, Hartman Rd., Lexington Ave., Indiana Ave., Fort Wayne, 09001126, Listed, 12/22/09 (Historic Residential Suburbs in the United States, 1830-1960 MPS)

Decatur County

Champ's Ford Bridge, Co. Rd. 100S over Clifty Creek, 2 mi. W. of Burney,Burney vicinity, 09001127, Listed, 12/22/09

Elkhart County

Koerting, William and Helen, House,2625 Greenleaf Blvd., Elkhart, 09001128, Listed, 12/22/09

Hamilton County

Taylor Ten, Address Restricted, Noblesville vicinity, 09001130, Listed, 12/24/09

Knox County

Simonson, Alfred, House,207 Shipping St., Edwardsport, 09001131, Listed, 12/24/09

Porter County

Chesterton Residential Historic District,Roughly a two block area between Lincoln & W. Indiana Aves., Chesterton, 09001134, Listed, 12/24/09

Collier Lodge Site, Address Restricted,Kouts vicinity, 09001133, Listed, 12/24/09

Ripley County

Straber Ford Bridge,Co. Rd. 550 N. over Otter Creek, Osgood vicinity, 09001132, Listed, 12/24/09

Shelby County

Middletown Bridge, Co. Rd. 450 S. over Conn's Creek, Middletown vicinity, 09001135, Listed, 12/24/09

Pearson, Lora B., School, 115 W. Colescott St., Shelbyville, 09001136, Listed, 12/24/09 (Indiana's Public Common and High Schools MPS)

KENTUCKY

Bell County

Brooks House,210 Arthur Heights, Middlesboro, 09001137,Listed, 12/23/09

Cumberland County

Coe House, 433 N. Main St., Burkesville, 09001138, Listed, 12/23/09

Hardin County

Hills, Jonathan, House,202 N. Main St., Elizabethtown, 09001139, Listed, 12/23/09

MAINE

Aroostook County

Martin, Isaie and Scholastique, House,137 Saint Catherine St., Madawaska, 09001147,Listed, 12/23/09

York County

Biddeford Main Street Historic District,29 to 316 Main St., and portions of Elm, Jefferson, Adams, Washington, Franklin, Alfred and Water Sts., Biddeford, 09001146, Listed, 12/24/09

MARYLAND

Caroline County

Linchester Mill, 3395 Linchester Rd., Preston vicinity, 09001148, Listed, 12/23/09

Kent County

Gobbler Hill, 10121 Fairlee Rd., Chestertown vicinity, 09001149,Listed, 12/23/09

Talbot County

Paw Paw Cove Site, Address Restricted, Tilghman vicinity, 09001150, Listed, 12/23/09

MINNESOTA

Watonwan County

Grand Opera House, 502 First Ave. S., St. James, 09001152, Listed, 12/23/09

MONTANA

Flathead County

Kelly's Camp Historic District, S. of Kelly's Camp Rd. between Kelly's Creek and by S. of cabins, Glacier National Park, Lake McDonald vicinity, 08001224, Listed, 12/23/09 (Recreational Camps on Lake McDonald, MT)

NEW JERSEY

Bergen County

Arnault, Fridolin, House, 111 First St., Wood-Ridge Borough, 09001153, Listed, 12/23/09

Edgewater Public Library, 49 Hudson Ave., Edgewater, 09001154, Listed, 12/23/09

Burlington County

Chesterford School, 415 W. Main St., Maple Shade, 09001155,Listed, 12/23/09

VIRGINIA

Charlottesville Independent City

McGuffey, William H., Primary School, 201 2nd St. N.W., Charlottesville, 09001156, Listed, 12/23/09

Henrico County

Curles Neck Farm, 4705 Curles Neck Rd., Henrico, 09001222, Listed, 12/22/09

Petersburg Independent City

Virginia Trunk & Bag Company, 600 W. Wythe St., Petersburg, 09001157, Listed, 12/23/09

Richmond Independent City

First Battalion Virginia Volunteers Armory,122 W. Leigh St., Richmond, 09001158, Listed, 12/23/09

Russell County

Honaker Commercial Historic District, US Hwy 80, Honaker, 09001159, Listed, 12/23/09

December 28 to December 31, 2009

KEY: State, County, Property Name, Address/Boundary, City, Vicinity, Reference Number, Action, Date, Multiple Name

ARIZONA

Maricopa County

Buckeye Union High School A-Wing, 902 E. Eason Ave., Buckeye, 09001160, Listed, 12/30/09

IDAHO

Blaine County

Rialto, Hotel, The, 201 S. Main St.,Hailey, 09001162, Listed, 12/30/09

Kootenai County

Mooney-Dahlberg Farmstead,5803 Riverview Dr., Coeur d'Alene vicinity, 09001163, Listed, 12/30/09

INDIANA

Gibson County

Trippett—Glaze—Duncan—Kolb Farm (Boundary Increase),IN 65 E. of Patoka, Patoka, 09001129, Listed, 12/28/09

KANSAS

Marshall County

Transue Brothers Blacksmith & Wagon Shop, 309 Main St., Summerfield, 09001164, Listed, 12/30/09

Montgomery County

Independence Junior High School, 300 W. Locust St., Independence, 09001165, Listed, 12/30/09 (Public Schools of Kansas MPS)

Republic County

Cossaart Barn, 3040 Birch Rd., Narka, 09001166, Listed, 12/30/09 (Agriculture-Related Resources of Kansas)

Sedgwick County

Fairmount Apartments, 1702 N. Fairmont Ave., Wichita, 09001167, Listed, 12/30/09 (Residential Resources of Wichita, Sedgwick County, Kansas 1870-1957)

Fairview Apartments, 206 E. 18th St., Wichita, 09001168, Listed, 12/30/09 (Residential Resources of Wichita, Sedgwick County, Kansas 1870-1957)

Shawnee County

Topeka Council of Colored Women's Clubs Building, 1149 SW Lincoln, Topeka, 09001169, Listed, 12/30/09

Wabaunsee County

East Stone Arch Bridge—Lake Wabaunsee, E. Flint Hills Dr. .9 mi. S. of KS 4, Eskridge, 09001170, Listed, 12/30/09 (Masonry Arch Bridges of Kansas TR)

Southeast Stone Arch Bridge—Lake Wabaunsee, E. Flint Hills Dr. 2.2 mi. S. of KS 4, Eskridge, 09001171, Listed, 12/30/09 (Masonry Arch Bridges of Kansas TR)

KENTUCKY

Larue County

Hodgenville Commercial Historic District (Boundary Increase), Water St. on N., High St. on the S., Greensburg St. on the E., and Walters St. on the W., Hodgenville, 09001140, Listed, 12/28/09

MARYLAND

Baltimore County

Dumbarton Historic District, Roughly bounded by Park Heights Ave., Slade Ave., Seven Mile La., and Old Court Rd., Pikesville, 09001172, Listed, 12/30/09

Baltimore Independent City

Union Baptist Church, 1219 Druid Hill Ave., Baltimore City, 09001173, Listed, 12/30/09

MASSACHUSETTS

Worcester County

Thayer, Benjamin, House, 200 Farm St., Blackstone, 09001174, Listed, 12/30/09

MISSOURI

Jackson County

Mercantile Bank & Trust Building, 1101 Walnut St., Kansas City, 09000830, Listed, 12/31/09

St. Louis County

Cragwold, 1455 Cragwold Rd., Kirkwood, 09001175, Listed, 12/30/09

NEW JERSEY

Essex County

Interstate Hosiery Mills, Inc. Mill Building, 110 N. Fulton St., Bloomfield, 09001176, Listed, 12/30/09

Union County

Summit Playhouse, 10 New England Ave., Summit, 09001177, Listed, 12/30/09

NORTH CAROLINA

Lincoln County

Lincolnton Recreation Department Youth Center, 119 E. Pine St., Lincolnton, 09001178, Listed, 12/30/09

WEST VIRGINIA

Berkeley County

Vanmetre, Thomas, House, 3093 Golf Course Rd., Martinsburg vicinity, 09001189, Listed, 12/30/09

Cabell County

Barnett Hospital and Nursing School, 1201 7th Ave., Huntington, 09001190, Listed, 12/30/09

Hampshire County

Fort Van Meter, River Rd., Romney vicinity, 09001191, Listed, 12/30/09

Logan County

Blair Mountain Battlefield, Address Restricted, Logan vicinity, 08000496, Removed/Determined Eligible, 12/30/09

Preston County

Gribble, A.W., Farm, Loop Rd., Pisgah vicinity, 09001192, Listed, 12/30/09

Randolph County

First Ward School, S. Davis Ave. and 13th St., Elkins, 09001193, Listed, 12/30/09

Randolph County

Riverside School, Block No. 1, River St., Elkins, 09001194, Listed, 12/30/09

Upshur County

Downtown Buckhannon Historic District, Portions of E. and W. Main, N. and S. Florida, Locust, N. and S. Kanawha and Spring Sts., Buckhannon, 09001196, Listed, 12/31/09

Webster County

Camp Caesar, 4868 Webster Rd., Cowen, 09001197, Listed, 12/30/09

WISCONSIN

Oneida County

Yawkey, William H., Boathouse, 7090 Woodson St., Hazelhurst, 09001198, Listed, 12/30/09

[FR Doc. 2010-5755 Filed 3-16-10; 8:45 am]

BILLING CODE 4312-51-P